SUSQUEHANNA RIVER BASIN COMMISSION

Notice of Actions Taken at March 10, 2011, Meeting

AGENCY: Susquehanna River Basin Commission.

ACTION: Notice of Commission Actions.

SUMMARY: As part of its regular business meeting held on March 10, 2011, in Huntingdon, Pennsylvania, the Commission convened a public hearing, at which took the following actions: (1) Approved, tabled and terminated application review of certain water resources projects; (2) rescinded approval for ten water resources projects; and (3) declined a request for it to reopen Docket No. 20091201 issued to Chesapeake Appalachia, LLC.

DATES: March 10, 2011.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) Presentation on the Morrison Cove Water Resources Study; (2) hydrologic conditions in the basin; (3) administrative approval of flowback reuse involving diversions policy; (4) approval/ratification of contracts; (5) a demonstration of the Commission's web-based Water Resources Portal; (6) an explanation of the contents and conditions of a typical Commission docket approval; (7) an administrative fee authorization for group transfers of approvals; (8) adoption of a Migratory Fish Management and Restoration Plan for the Susquehanna River Basin; (9) authorization to initiate the National Environmental Policy Act (NEPA) phase of the Cowanesque and Curwensville Lakes Low Flow Operations Change; and (10) revision of the FY-2012 budget along with expansion of the Compliance Reserve Fund and creation of a Capital Reserve Fund. The Commission heard counsel's report on legal matters affecting the Commission. The Commission also convened a public hearing and took the following actions:

Public Hearing—Rescissions of Project Approval

1. Project Sponsor and Facility: Chief Oil & Gas LLC (Sugar Creek) (Docket No. 20090314), West Burlington Township, Bradford County, Pa.

2. Project Sponsor and Facility: Range Resources—Appalachia, LLC (Lycoming Creek-1) (Docket No. 20080933), Hepburn Township, Lycoming County, Pa.

3. Project Sponsor and Facility: Range Resources—Appalachia, LLC (West Branch Susquehanna River) (Docket No. 20080940), Colebrook Township, Clinton County, Pa.

4. Project Sponsor and Facility: Southwestern Energy Company (Cold Creek) (Docket No. 20090909), Herrick Township, Bradford County, Pa.

5. Project Sponsor and Facility: Southwestern Energy Company (Mill Creek) (Docket No. 20090910), Stevens Township, Bradford County, Pa.

6. Project Sponsor and Facility: Southwestern Energy Company (Ross Creek) (Docket No. 20090911), Stevens Township, Bradford County, Pa.

7. Project Sponsor and Facility: Southwestern Energy Company (Tunkhannock Creek) (Docket No. 20090913), Gibson Township, Susquehanna County, Pa.

8. Project Sponsor and Facility: Southwestern Energy Company (Wyalusing Creek) (Docket No. 20090915), Wyalusing Township, Bradford County, Pa.

9. Project Sponsor and Facility: Southwestern Energy Company (Lycoming Creek) (Docket No. 20091208), Lewis Township, Lycoming County, Pa.

10. Project Sponsor and Facility: SVC Manufacturing, Inc. (Docket No. 19920907), Fairview Township, Luzerne County, Pa.

Public Hearing—Projects Approved

1. Project Sponsor and Facility: Anadarko E&P Company LP (West Branch Susquehanna River), Colebrook Township, Clinton County, Pa. Surface water withdrawal of up to 1.500 mgd.

2. Project Sponsor and Facility: Anadarko E&P Company LP (West Branch Susquehanna River-3), Nippenose Township, Lycoming County, Pa. Modification to increase maximum instantaneous pumping rate within approved daily rate.

3. Project Sponsor and Facility: Cedar Rock Materials Corp., Salem Township, Luzerne County, Pa. Groundwater withdrawal of up to 0.720 mgd and consumptive water use of up to 0.700 mgd from Well PW-1.

4. Project Sponsor and Facility: Chesapeake Appalachia, LLC (Susquehanna River), Braintrim Township, Wyoming County, Pa. Surface water withdrawal of up to 3.000 mgd.

5. Project Sponsor and Facility: Chief Oil & Gas LLC (Martins Creek), Hop Bottom Borough, Susquehanna County, Pa. Surface water withdrawal of up to 0.360 mgd.

6. Project Sponsor: Dean Dairy Holdings, LLC. Project Facility: Swiss Premium Dairy, Inc., North Cornwall Township, Lebanon County, Pa. Modification to increase consumptive water use of up to 0.200 mgd.

7. Project Sponsor and Facility: East Donegal Township Municipal Authority, East Donegal Township, Lancaster County, Pa. Groundwater withdrawal of up to 0.260 mgd from Well 1.

8. Project Sponsor: Hazleton Creek Properties, LLC. Project Facility: Hazleton Mine Reclamation, Hazleton City, Luzerne County, Pa. Groundwater withdrawal of up to 0.055 mgd from Well MP-1 and consumptive water use of up to 0.055 mgd.

9. Project Sponsor and Facility: J-W Operating Company (Plum Grove Cameron 5 Strip Mine Pond), Shippen Township, Cameron County, Pa. Surface water withdrawal of up to 0.090 mgd.

10. Project Sponsor and Facility: Novus Operating, LLC (Tioga River), Covington Township, Tioga County, Pa. Surface water withdrawal of up to 1.750 mgd.

11. Project Sponsor and Facility: Peoples Financial Services Corp. (Tunkhannock Creek), Tunkhannock Township, Wyoming County, Pa. Surface water withdrawal of up to 0.999 mgd.

12. Project Sponsor and Facility: Range Resources—Appalachia, LLC (West Branch Susquehanna River), Piatt Township, Lycoming County, Pa. Surface water withdrawal of up to 3.000 mgd.

13. Project Sponsor and Facility: Southwestern Energy Company (Martins Creek), Brooklyn and Harford Townships, Susquehanna County, Pa. Surface water withdrawal of up to 0.997 mgd.

14. Project Sponsor and Facility: Southwestern Energy Company (Tuscarora Creek), Tuscarora Township, Bradford County, Pa. Surface water withdrawal of up to 0.500 mgd.

15. Project Sponsor: Texas Eastern Transmission LP (Susquehanna River), East Donegal Township, Lancaster County, Pa. Surface water withdrawal of up to 2.304 mgd.

16. Project Sponsor and Facility: Victory Energy Corporation (Pine Creek), Pike Township, Potter County, Pa. Surface water withdrawal of up to 0.460 mgd.

Public Hearing—Projects Approved Involving A Diversion

1. Project Sponsor: Pennsylvania General Energy Company, L.L.C. Project Facility: Scaffold Lick Pond—1, Liberty Township, McKean County, Pa. Into-basin diversion of up to 0.500 mgd from the Ohio River Basin.

2. Project Sponsor: Pennsylvania General Energy Company, L.L.C. Project Facility: Scaffold Lick Pond—2, Liberty Township, McKean County, Pa. Into-basin diversion of up to 0.500 mgd from the Ohio River Basin.

3. Project Sponsor: Ultra Resources, Inc. Project Facility: Wayne Gravel Products Quarry, Ceres Township, McKean County, Pa. Into-basin diversion of up to 1.170 mgd from the Ohio River Basin.

Public Hearing—Project Tabled

1. Project Sponsor and Facility: Ephrata Area Joint Authority, Ephrata Borough, Lancaster County, Pa. Application for groundwater withdrawal of up to 1.210 mgd from Well 1.

Public Hearing—Review of Project Application Terminated

1. Project Sponsor and Facility: Airy View Heights, Inc., Centre Township, Perry County, Pa. Application for groundwater withdrawal of up to 0.465 mgd from Well PW-5.

Public Hearing—Project Withdrawn

1. Project Sponsor and Facility: ALTA Operating Company, LLC (DuBois Creek), Great Bend Township, Susquehanna County, Pa. Application for surface water withdrawal of up to 0.249 mgd.

Public Hearing—Request of Marvin Fetterman to Reopen Docket No. 20091201

The Commission declined a request of Mr. Marvin Fetterman for it to reopen Docket No. 20091201 issued to Chesapeake Appalachia, LLC.

Authority: Pub. L. 91-575, 84 Stat. 1509 et seq., 18 CFR parts 806, 807, and 808.

Dated: March 23, 2011.
Thomas W. Beauduy,
Deputy Executive Director.

[FR Doc. 2011-7712 Filed 3-31-11; 8:45 am]

BILLING CODE 7040-01-P